NUCLEAR REGULATORY COMMISSION

Sunshine Act Notice

Agency Holding the Meetings: Nuclear Regulatory Commission.

DATES: Weeks of January 1, 8, 15, 22, 29, February 5, 2007.

Place: Commissioners' Conference Room, 11555 Rockville Pike, Rockville, Maryland.

Status: Public and closed.

Matters to be Considered:

Week of January 1, 2007

Thursday, January 4, 2007

12:55 p.m. Affirmation Session (Public Meeting) (Tentative)

a. Final Rule: Secure Transfer of Nuclear Material (RIN 3150-AH90) (Tentative)

b. Entergy Nuclear Operations, Inc. (Pilgrim Nuclear Power Station), Intervenor Pilgrim Watch's Appeal of LBP-06-23 (Ruling on Standing and Contentions) (Tentative)

Week of January 8, 2007—Tentative

Wednesday, January 10, 2007

9:30 a.m. Briefing on Browns Ferry Unit 1 Restart (Public Meeting) (Contact: Catherine Haney, 301 415-1453)

This meeting will be webcast live at the Web address— http://www.nrc.gov.

Thursday, January 11, 2007

1:25 p.m. Affirmation Session (Public Meeting) (Tentative)

a. Final Rulemaking to Revise 10 CFR 73.1, Design Basis Threat (DBT) Requirements (Tentative)

b. Entergy Nuclear Vermont Yankee, LLC, & Entergy Nuclear Operations, Inc. (Vermont Yankee Nuclear Power Station), LBP-06-20 (9/22/06): Entergy Nuclear Generation Company & Entergy Nuclear Operations, Inc. (Pilgrim Nuclear Power Station), LBP-06-23 (10/16/06) (Tentative)

1:30 p.m. Periodic Briefing on New Reactor Issues (Public Meeting) (Contact: Donna Williams, 301 415-1322)

This meeting will be webcast live at the Web address— http://www.nrc.gov.

Week of January 15, 2007—Tentative

There are no meetings scheduled for the Week of January 15, 2007.

Week of January 22, 2007—Tentative

Tuesday, January 23, 2007

1:30 p.m. Joint Meeting with Federal Energy Regulatory Commission on Grid Reliability (Public Meeting) (Contact: Mike Mayfield, 301 415-5621)

This meeting will be webcast live at the Web address— http://www.nrc.gov.

Week of January 29, 2007—Tentative

Wednesday, January 31, 2007

9:30 a.m. Discussion of Security Issues (Closed—Ex. 1 & 3) To be held at Department of Homeland Security Headquarters, Washington, DC.

Thursday, February 1, 2007

9:30 a.m. Discussion of Management Issues (Closed—Ex. 2)

1:30 p.m. Briefing on Strategic Workforce Planning and Human Capital Initiatives (Public Meeting) (Contact: Mary Ellen Beach, 301 415-6803)

This meeting will be webcast live at the Web address— http://www.nrc.gov.

Week of February 5, 2007—Tentative

There are no meetings scheduled for the Week of February 5, 2007.

* * * * *

*The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: December 26, 2006.
R. Michelle Schroll,
Office of the Secretary.

[FR Doc. 06-9965 Filed 12-28-06; 9:43 am]

BILLING CODE 7590-01-P